DEPARTMENT OF DEFENSE

Department of the Navy

Notice of Intent To Grant Exclusive License; SurTec International, GmbH

AGENCY: Department of the Navy, DoD.

ACTION: Notice.

SUMMARY: The Department of the Navy hereby gives notice of its intent to grant to SurTec International, GmbH, of 9 Skyline Drive, West Orange, NJ 07052 and SurTec International, GmbH, Stuckerstrasse 18, D-64673, Zwingenberg, Germany, a revocable, nonassignable, exclusive license to practice in Brazil, China, India, Japan, Korea and all member countries of the European Patent Convention, the Government-owned inventions described in U.S. Patent No. 6,669,764: Pretreatment for Aluminum and Aluminum Alloys, Navy Case No. 8,4379.//U.S. Patent Application. Serial No. 11/058,533: Process for Sealing Phosphoric Acid Anodized Aluminums, Navy Case No. 95892.//U.S. Patent. Application Serial No. 11/116,166: Composition and Process for Preparing Chromium-Zirconium Coatings on Metal Substrates, Navy Case No. 96343.//U.S. Patent Application. Serial No. 11/116,165: Composition and Process for Preparing Protective Coatings on Metal Substrates, Navy Case No. 97039 in the field of corrosion prevention.

DATES: Anyone wishing to object to the granting of this license must file written objections along with supporting evidence, if any, not later than August 15, 2007.

ADDRESSES: Written objections are to be filed with Naval Air Warfare Center Aircraft Division, Business Office, Office of Research and Technology Applications, Building 505, Room 116, 22473 Millstone Road, Patuxent River, Maryland 20670.

FOR FURTHER INFORMATION CONTACT: Mr. Paul Fritz, Naval Air Warfare Center Aircraft Division, Business Office, Office of Research and Technology Applications, Building 505, Room 116, 22473 Millstone Road, Patuxent River, Maryland 20670, telephone 301-342-5586, fax 301-342-1134, e-mail: paul.fritz@navy.mil.

(Authority: 35 U.S.C. 207, 37 CFR Part 404.

)

Dated: 24 July 2007.
L. R. Almand,
Federal Register Liaison Officer, Office of the Navy Judge Advocate General, Administrative Law Division.

[FR Doc. E7-14713 Filed 7-30-07; 8:45 am]

BILLING CODE 3810-FF-P